DEPARTMENT OF EDUCATION

Office of Safe and Drug-Free Schools—Discretionary Grant Programs

AGENCY: Office of Safe and Drug-Free Schools, Department of Education.

ACTION: Notice of proposed eligibility requirement.

SUMMARY: The Assistant Deputy Secretary for Safe and Drug-Free Schools proposes an eligibility requirement for the following discretionary grant programs administered by the Office of Safe and Drug-Free Schools (OSDFS Discretionary Grant Programs):

• Federal Activities (CFDA No. 84.184).

• Alcohol Abuse Reduction (CFDA No. 84.184A).

• Mentoring Programs (CFDA No. 84.184B).

• Student Drug Testing (CFDA No. 84.184D).

• Emergency Response and Crisis Management (CFDA No. 84.184E).

• Grants to Prevent High Risk Drinking or Violent Behavior Among College Students (CFDA No. 84.184H).

• Safe Schools/Healthy Students (CFDA No. 84.184L).

• Prevention Models on College Campuses (CFDA No. 84.184N).

• Grants to States to Improve Management of Drug and Violence Prevention Programs (CFDA No. 84.184R).

• Native Hawaiians (CFDA No. 84.186C).

• Elementary and Secondary School Counseling Program (CFDA No. 84.215E).

• Carol M. White Physical Education Program (CFDA No. 84.215F).

• Foundations for Learning (CFDA No. 84.215H).

• Grants to Integrate Schools and Mental Health Systems (CFDA No. 84.215M).

• Partnerships in Character Education Program (CFDA No. 84.215S/V).

• Cooperative Civic Education and Economic Education Exchange (CFDA No. 84.304A).

• Life Skills for State and Local Prisoners (CFDA No. 84.255A).

We may use the eligibility requirement for competitions under the OSDFS Discretionary Grant Programs in fiscal year 2006 and later years. We take this action to focus Federal financial assistance on identified national needs. We intend for the eligibility requirement to ensure an equitable distribution of awards among eligible applicants for grants under the OSDFS Discretionary Grant Programs.

DATES: We must receive your comments on or before March 27, 2006.

ADDRESSES: Address all comments about the eligibility requirement to Nicole White, U.S. Department of Education, 400 Maryland Avenue, SW., room 3E252, Washington, DC 20202-6450. If you prefer to send your comments through the Internet, use the following address: Nicole.White@ed.gov.

You must include the phrase “Office of Safe and Drug-Free Schools—Comments on Proposed Eligibility Requirement” in the subject line of your electronic message.

FOR FURTHER INFORMATION CONTACT: Nicole White at (202) 260-1131.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding the proposed eligibility requirement. We invite you to assist us in complying with the specific requirements of Executive Order 12866 and its overall requirement of reducing regulatory burden that might result from the proposed eligibility requirement. Please let us know of any further opportunities we should take to reduce potential costs or increase potential benefits while preserving the effective and efficient administration of the program.

During and after the comment period, you may inspect all public comments about the proposed eligibility requirement, in room 3E328, 400 Maryland Avenue, SW., Washington DC, between the hours of 8:30 a.m. and 4 p.m., Washington, DC time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

Proposed Eligibility Requirement

Background

The Office of Safe and Drug-Free Schools (OSDFS) administers, coordinates, and recommends policy for improving the quality and excellence of programs and activities directed toward drug and violence prevention in schools. The OSDFS Discretionary Grant Programs are intended to support this Federal priority by providing initial funding to develop, implement, or expand drug and violence prevention projects at the local and State levels. In addition to providing this initial funding, OSDFS also is committed to promoting sustainability of projects and activities by encouraging grantees to seek other sources of funding and support when their project period ends.

In this notice, we are proposing a requirement that, if applied in a competition under one of the OSDFS Discretionary Grant Programs, would restrict eligibility to only those applicants that do not have an active grant under the specific program. By taking into account an applicant's current Federal funding, we hope to make it possible for the Department to provide funding for applicants that do not currently receive Federal assistance and to provide existing grantees with the incentive to pursue and obtain other funding so that they can continue their projects beyond the Federal project period. To this end, Federal resources and capacity-building opportunities would be made available to a larger pool of applicants.

Note: We will announce the final eligibility requirement in a notice in the Federal Register. We will determine the final eligibility requirement after considering responses to this notice and other information available to the Department. This notice does not preclude us from proposing or using additional eligibility requirements subject to meeting applicable rulemaking requirements. In any given year we elect to use the eligibility requirement, we will announce the eligibility requirement in the Federal Register notice governing the applicable grant competition.

Proposed Eligibility Requirement for the Office of Safe and Drug-Free Schools Federal Activities (CFDA No. 84.184); Alcohol Abuse Reduction (CFDA No. 84.184A); Mentoring Programs (CFDA No. 84.184B); Student Drug Testing (CFDA No. 84.184D); Emergency Response and Crisis Management (CFDA No. 84.184E); Grants to Prevent High Risk Drinking or Violent Behavior Among College Students (CFDA No. 84.184H); Safe Schools/Healthy Students (CFDA No. 84.184L); Prevention Models on College Campuses (CFDA No. 84.184N); Grants to States to Improve Management of Drug and Violence Prevention Programs (CFDA No. 84.184R); Native Hawaiians (CFDA No. 84.186C); Elementary and Secondary School Counseling Program (CFDA No. 84.215E); Carol M. White Physical Education Program (CFDA No. 84.215F); Foundations for Learning (CFDA No. 84.215H); Grants to Integrate Schools and Mental Health Systems (CFDA No. 84.215M); Partnerships in Character Education Program (CFDA No. 84.215S/V); Cooperative Civic Education and Economic Education Exchange (CFDA No. 84.304A); and Life Skills for State and Local Prisoners (CFDA No. 84.255A) Programs.

Active Grants

Under this proposed requirement, the Secretary limits eligibility under the discretionary grant program competition to applicants that do not currently have an active grant under the same discretionary grant program.

For the purpose of this eligibility requirement, a grant is considered active until the end of the grant's project or funding period, including any extensions of those periods that extend the grantee's authority to obligate funds.

Executive Order 12866

This notice of proposed eligibility requirement has been reviewed in accordance with Executive Order 12866. Under the terms of the order, we have assessed the potential costs and benefits of this regulatory action.

The potential costs associated with this notice of proposed eligibility requirement are those we have determined as necessary for administering this program effectively and efficiently. The benefit of this proposed eligibility requirement is to ensure that limited Federal financial assistance under the Discretionary Grant Programs is made available in a manner that is fair and equitable to the greatest number of applicants.

In assessing the potential costs and benefits—both quantitative and qualitative—of this notice of proposed eligibility requirement, we have determined that the benefits of the proposed eligibility requirement justify the costs.

We have also determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other documents of this Department published in the Federal Register, in text or Adobe Portable Document Format (PDF) on the Internet at the following site: http://www.ed.gov/news/fedregister.

To use PDF, you must have Adobe Acrobat Reader, which is available free at this site. If you have questions about using PDF, call the U.S. Government Printing Office (GPO) toll free at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1211-2 (1991), 6715, 7117, 7131, 7139, 7140, 7245, 7247, 7261, 7269, and 7269a.

Dated: February 17, 2006.
Deborah A. Price,
Assistant Deputy Secretary for Safe and Drug-Free Schools.

[FR Doc. E6-2586 Filed 2-22-06; 8:45 am]

BILLING CODE 4000-01-P